OFFICE OF MANAGEMENT AND BUDGET

Office of Federal Procurement Policy; Cost Accounting Standards Board; Comprehensive Review

AGENCY: Cost Accounting Standards Board, Office of Federal Procurement Policy, OMB.

ACTION: Notice.

SUMMARY: The Cost Accounting Standards Board (CASB) hereby invites public comments on how the Board should proceed with its comprehensive review of the Cost Accounting Standards (CAS) and attendant requirements. The CASB's objective in issuing this Notice is to consider public comments in developing the Board's plan for performing a comprehensive review.

DATES: Comments must be submitted in writing, by letter, and must be received no later than September 25, 2000.

ADDRESSES: Comments should be addressed to Rudolph J. Schuhbauer, Project Director, Cost Accounting Standards Board, Office of Federal Procurement Policy, 725 17th Street, NW, Room 9013, Washington, DC 20503. Attn: CASB Docket No. 00-02. The submission of public comments in written form, by letter, is requested. Receipt of a readable data file via Internet E-mail cannot be assured. To facilitate the CASB's review of your submitted comments, please include with your written comments a three point five inch (3.5″) computer diskette copy of your comments and denote the word processing format used.

FOR FURTHER INFORMATION CONTACT: Mr. Rudolph J. Schuhbauer, Project Director, Cost Accounting Standards Board (telephone 202-395-3254).

SUPPLEMENTARY INFORMATION: Established pursuant to section 5 of Public Law 100-679, the Office of Federal Procurement Policy Act Amendments of 1988, 41 U.S.C. 422, as amended, the Cost Accounting Standards Board (CASB) has the exclusive authority to make, promulgate, amend, and rescind cost accounting standards and interpretations thereof designed to achieve uniformity and consistency in the cost accounting practices governing the measurement, assignment and allocation of costs to CAS-covered contracts and subcontracts. Under its statutory authority, the Board is also required to promulgate rules and regulations for the implementation of CAS. The referenced statutory provisions provide that such regulations shall require contractors and subcontractors to disclose their cost accounting practices, including the methods of distinguishing direct costs from indirect costs and the basis for allocating indirect costs; and to agree to a contract price adjustment, with interest, for any increased costs paid to such contractor or subcontractor due to a change in cost accounting practices or failure to comply with applicable CAS. Any contract price adjustment undertaken, on relevant contracts, shall be made so as to protect the Government from payment, in the aggregate, of increased costs (as defined by the Board).

The Board's rules and regulations are codified at 48 CFR Chapter 99.

The Board has placed on its agenda a comprehensive review of CAS and its attendant requirements. The Board is requesting the views of interested parties with respect to the particular CAS items they believe may require modification, issuance of an interpretation, or recission. The Board requests that commenters prioritize the items recommended for review by the CASB.

Individuals and organizations desiring to submit specific items they believe should be included in the Board's comprehensive review are requested to provide such items in the following format:

—Name of Cost Accounting Standard, cost accounting issue, or regulatory provision in question;

—Reasons for concern;

—Potential solution(s) (Identify the proposed change being suggested, e.g., modification, interpretation, or recission of all or part of an existing Standard, issuance of a new Standard, etc.; and the rationale therefor.);

—Possible burdens and benefits from any proposed approaches; and

—Priority of issues (If more than one item is proposed, please prioritize your issues.).

Items submitted by the public, as well as those submitted by Federal agencies, will be considered in the development of a detailed plan for the conduct of the comprehensive review.

Open Public Meeting: After it reviews the public comments received in response to this Notice, the Board will schedule an open public meeting to discuss its detailed plan for accomplishing the comprehensive review. The date, time and location of the meeting will be the subject of a separate Federal Register notice.

Nelson F. Gibbs,
Executive Director, Cost Accounting Standards Board.

[FR Doc. 00-20064 Filed 8-8-00; 8:45 am]

BILLING CODE 3110-01-P